DEPARTMENT OF DEFENSE

Department of the Air Force

Notice of Intent to Prepare an Environmental Impact Statement (EIS) for Entry Control Reconfiguration Area at Wright-Patterson Air Force Base, OH

AGENCY: U.S. Air Force, Air Force Material Command and 88th Air Base Wing.

ACTION: Notice of Intent.

SUMMARY: Pursuant to the National Environmental Policy Act (NEPA) of 1969, as amended (42 United States Code 4321, et seq.), the Council on Environmental Quality Regulations for implementing the procedural provisions of NEPA (40 Code of Federal Regulation (CFR) Parts 1500-1508), and U.S. Air Force (USAF) policy and procedures (32 CFR part 989), the USAF is issuing this notice to advise the public of its intent to prepare an EIS to evaluate potential environmental impacts associated with the construction and operation of the proposed Entry Control Reconfiguration of Area A by Wright-Patterson Air Force Base (WPAFB). Public scoping meetings will be held to assist in identifying reasonable alternatives, potential impacts and the relative significance of impacts to be analyzed in the EIS.

The purpose and need of the proposed action is to improve security, safety, and traffic flow into and on the military base. An EIS must be prepared to evaluate the environmental impacts associated with the relocation and reconfiguration of traffic entry into Area A of the base. The proposed action includes consolidating, relocating, and reconfiguring vehicle entry control points (ECPs); upgrading the ECPs to meet current Antiterrorism/Force Protection (ATFP) standards; and extending the base perimeter fence to encompass the Kittyhawk Center, enabling it to be contiguous with Area A of the base.

The EIS will address issues associated with ECPs and the on-base roadway network located in Area A of the installation. The EIS will address primary concerns related to the ECPs and existing roadway network where State Route 444 separates the Kittyhawk Center. Another concern involves the need to consolidate the existing ECPs in Area A into a smaller set of upgraded and strategically placed gates.

The EIS will analyze three alternatives: Closure existing State Route 444 through Area A and relocation of all traffic onto Kauffman Avenue and Central Avenue via Dayton- Yellow Springs Road, realignment of State Route 444 to the east of the WPAFB Kittyhawk Center and west of the existing railroad, and the No Action alternative. Technical studies related to the proposed reconfiguration of ECPs includes biological and cultural resources impact analysis, noise and air studies, and traffic analyses. The USAF intends to use the EIS process and documentation to fulfill its National Historic Preservation Act, Section 106 consultation requirements (36 CFR 800.8).

Scoping: The USAF will hold public scoping meetings in mid January and early February at the Fairborn Council Chambers to solicit public participation in this environmental analysis. The public will be invited to participate in the scoping meetings and review the Draft Final EIS. Notification of the meeting locations, dates, and time will be made in the local area and will be announced via local news media. Information gathered during the public scoping will be used in the development of the Draft EIS.

The scoping process will help identify the full range of reasonable alternatives, potential impacts and key issues to be emphasized in the environmental analysis. Recognizing that open communication of issues is a critical element of the EIS process, the USAF and WPAFB intend to ensure that the scoping experience is meaningful and productive for all participants. Accordingly, the project team is putting strong emphasis on an EIS process that fosters beneficial dialogue and relationship building among all stakeholders, particularly those in the Fairborn community in close proximity to WPAFB. Handicap assistance and translation service will be made available; please provide requests in advance to the point of contact listed below.

Oral and written comments presented at the public scoping meetings, as well as written comments received by the USAF during this scoping period and throughout the EIS process, will be considered in the preparation of the EIS. Letters and other written or oral comments received may be published in the EIS along with the names of the individuals making the comments. (Personal home addresses and phone numbers will not be published.) As required by law, comments will be addressed in the EIS and made available to the public. Private addresses will only be used to develop a mailing list of those individuals requesting copies of the EIS.

FOR FURTHER INFORMATION CONTACT: Please direct any written comments or requests for information to Mr. Vince King, Public Affairs Office, 5215 Thurlow Street, Bldg 70 Suite 4B, Wright-Patterson AFB, Ohio 45433-5543 (Phone: 937-522-3252; e-mail 88ABWPAX@WPAFB.AF.MIL). Handicap assistance and translation service at the public meetings are available in advance through Mr. King.

Bao-Anh Trinh,
Air Force Federal Register Liaison Officer.

[FR Doc. 2010-32616 Filed 12-27-10; 8:45 am]

BILLING CODE 5001-10-P